ENVIRONMENTAL PROTECTION AGENCY

40 CFR Part 52

[RME-OAR-2005-MD-0002; FRL-7927-7]

Approval and Promulgation of Air Quality Implementation Plans; Maryland; Withdrawal of Direct Final Rule

AGENCY: Environmental Protection Agency (EPA).

ACTION: Withdrawal of direct final rule.

SUMMARY: Due to adverse comments, EPA is withdrawing the direct final rule to approve clarifications to the exception provisions of the Maryland visible emissions regulations. In the direct final rule published on April 26, 2005 (70 FR 21337), we stated that if we received adverse comment by May 26, 2005, the rule would be withdrawn and not take effect. EPA subsequently received two adverse comments. EPA will address the comments received in a subsequent final action based upon the proposed action also published on April 26, 2005 (70 FR 21387). EPA will not institute a second comment period on this action.

DATES: The direct final rule is withdrawn as of June 27, 2005.

FOR FURTHER INFORMATION CONTACT: Linda Miller, (215) 814-2068 or e-mail at miller.linda@epa.gov.

List of Subjects in 40 CFR Part 52

Environmental protection, Air pollution control, Particulate matter, Reporting and recordkeeping requirements.

Dated: June 15, 2005.
Donald S. Welsh,
Regional Administrator, Region III.

Accordingly, the revised entries for COMAR 26.11.06.02, 10.18.08 (Title), 10.18.08.04, 26.11.09.05, and 26.11.10.03 in 40 CFR 52.1070(c) published at 70 FR 21339 and 70 FR 21340 are withdrawn as of June 27, 2005.

[FR Doc. 05-12580 Filed 6-24-05; 8:45 am]

BILLING CODE 6560-50-P